ENVIRONMENTAL PROTECTION AGENCY

[EPA-HQ-OPP-2008-0156; FRL-8905-1]

Agency Information Collection Activities; Submission to OMB for Review and Approval; Comment Request; Use of Consumer Research in Developing Improved Labeling for Pesticide Products, EPA ICR No. 2297.01, OMB Control No. 2070-NEW

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request for a new collection. This ICR describes the nature of the information collection and its estimated burden and cost.

DATES: Additional comments may be submitted on or before June 15, 2009.

ADDRESSES: Submit your comments, referencing docket ID number EPA-HQ-OPP-2008-0156, to (1) EPA Online to http://www.regulations.gov (our preferred method), or by mail to: Office of Pesticide Programs (OPP) Regulatory Public Docket (7502P), 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Cameo Smoot, Field and External Affairs Division, 7506P, Office of Pesticide Programs, Environmental Protection Agency, 1200 Pennsylvania Ave., NW., Washington, DC 20460; telephone number: (703) 305-5454; fax number: (703) 305-5884; e-mail address: smoot.cameo@epa.gov.

SUPPLEMENTARY INFORMATION: EPA has submitted the following ICR to OMB for review and approval according to the procedures prescribed in 5 CFR 1320.12. On April 2, 2008 (73 FR 17971), EPA sought comments on this ICR pursuant to 5 CFR 1320.8(d). EPA received one comment and has addressed the comment received.

EPA has established a public docket for this ICR under Docket ID No. EPA-HQ-OPP-2008-0156, which is available for Online viewing at http://www.regulations.gov, or in person viewing at the OPP Regulatory Public Docket in Rm. S-4400, One Potomac Yard (South Building), 2777 S. Crystal Drive, Arlington, VA. The hours of operation of this Docket Facility are from 8:30 a.m. to 4 p.m., Monday through Friday, excluding legal holidays. The Docket telephone number is (703) 305-5805.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, Confidential Business Information (CBI), or other information whose public disclosure is restricted by statute. For further information about the electronic docket, go to http://www.regulations.gov.

Title: Use of Consumer Research in Developing Improved Labeling for Pesticide Products.

ICR Numbers: EPA ICR No. 2297.01, OMB Control No. 2070-New.

ICR Status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The Environmental Protection Agency (EPA or the Agency) is proposing to initiate a new information collection activity. EPA intends to initiate a voluntary information collection for consumer research involving the conduct of surveys, focus groups and one-on-one interviews to test various versions of pesticide product labels and other informational materials developed for the general public. The pesticide label provides critical information about how to handle and safely use the pesticide product and avoid harm to human health and the environment. Every pesticide product must bear a label containing the information specified by FIFRA as established in EPA's labeling regulations at 40 CFR 156.10. The purpose for such consumer research is to identify the consumer's understanding of the information on a pesticide product label. EPA would use this information to formulate decisions and policies affecting the labeling of pesticide products. The ultimate goal of this activity is to assure that the consumer can effectively use this information to select the pesticide product most likely to meet their needs and readily understand label instructions regarding product use.

The collected information would be used to revise pesticide product labels and to create other user friendly consumer information materials. It is anticipated that several surveys, focus groups, and/or one-on-one interviews would be conducted over the life of the ICR.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 0.89 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: General Public.

Estimated Number of Respondents: 2,922.

Frequency of Response: On occasion.

Estimated Total Annual Hour Burden: 381.

Estimated Total Annual Cost: $9,587.

Changes in the Estimates: None. This is a new ICR request.

Dated: May 8, 2009.
John Moses,
Director, Collection Strategies Division.

[FR Doc. E9-11273 Filed 5-13-09; 8:45 am]

BILLING CODE 6560-50-P